DEPARTMENT OF EDUCATION

Direct Grant Programs

AGENCY: Department of Education.

ACTION: Notice reopening competitions or extending application deadline dates for certain direct grants.

SUMMARY: The Secretary reopens competitions or extends the deadline dates for the submission of applications for direct grants under several programs. All of the affected competitions are among those under which the Secretary is making new awards for fiscal year (FY) 2002. The Secretary takes this action to allow more time for the preparation and submission of applications by potential applicants who may have been precluded by terrorist attacks of September 11, 2001, from meeting previously announced deadlines. The reopenings or extensions apply to all eligible applicants for the competitions listed in this notice.

DATES: The new deadline date for transmitting applications under each competition is listed with that competition on the chart in this notice.

If the program in which you are interested is subject to Executive Order 12372, the deadline date for the transmittal of State process recommendations by State Single Points of Contact (SPOCs) and comments by other interested parties remains as originally announced.

ADDRESSES: The address and telephone number for obtaining applications for, or information about, an individual competition are in the application notice for that program. We have listed the date and Federal Register citation of the application notice for each competition on the chart in this notice.

If you use a telecommunications device for the deaf (TDD), you may call the TDD number, if any, listed in the individual application notice. If we have not listed a TDD number, you may call the Federal Information Relay Service (FIRS) at 1-800-877-8339.

If you want to transmit a recommendation or comment under Executive Order 12372, you can find the latest list and addresses of individual SPOCs on the Web site of the Office of Management and Budget at the following address:

http://www.whitehouse.gov/omb/grants

SUPPLEMENTARY INFORMATION: The following is specific information about each competition covered by this notice:

List of Programs Affected
CFDA No. and Name | Publication date and Federal Register citation | Original deadline date for applications | Revised deadline date for applications
Office of Vocational and Adult Education
84.353A Tech-Prep Demonstration Program | 7/09/01 (66 FR 35862) | 9/17/01 | * 10/12/01
Office of Postsecondary Education
84.066A Educational Opportunity Centers | 6/11/01 (66 FR 31338) | 9/28/01 | 10/12/01
Office of Special Education and Rehabilitative Services
84.133F Research Fellowships Program | 7/31/01 (66 FR 39610) | 10/09/01 | 11/13/01
84.133G Field-Initiated Projects | 7/31/01 (66 FR 39612) | 10/09/01 | 11/13/01
84.133P Field-Initiated Projects | 7/31/01 (66 FR 39612) | 10/09/01 | 11/13/01
* Electronic applicants should be aware that e-Application will not be available for processing of applications on October 1, 2001, but will be available following that date and through the 10/12/01 deadline.

If you are an individual with a disability, you may obtain a copy of this notice in an alternative format (e.g., Braille, large print, audiotape, or computer diskette) on request to the contact person listed in the individual application notices.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Dated: September 25, 2001.
Mark Carney,
Deputy Chief Financial Officer.

[FR Doc. 01-24418 Filed 9-25-01; 3:54 pm]

BILLING CODE 4000-01-U